COMMISSION ON CIVIL RIGHTS

Sunshine Act Notice

AGENCY: United States Commission on Civil Rights.

ACTION: Notice of meeting.

DATE AND TIME: Friday, January 13, 2012; 9:30 a.m. EST.

PLACE: 624 Ninth Street NW., Room 540, Washington, DC 20425.

Meeting Agenda

This meeting is open to the public.

I. Approval of Agenda

II. Approval of the December 19, 2011 Meeting Minutes

III. Program Planning Update and discussion of projects:

• Update on 2012 Statutory Enforcement Report planning

• Update on 2012 Trafficking Briefing planning

• Scheduling of 2012 Immigration Briefing

• Review of Concept Papers/Approval

IV. Management and Operations

• Staff Director's report

• Chief of Regional Programs' Report

V. State Advisory Committee Issues:

• Re-Chartering the Hawaii SAC

VI. Adjourn

FOR FURTHER INFORMATION CONTACT: Lenore Ostrowsky, Acting Chief, Public Affairs Unit, (202) 376-8591.

Hearing-impaired persons who will attend the meeting and require the services of a sign language interpreter should contact Pamela Dunston at (202) 376-8105 or at signlanguage@usccr.gov at least seven business days before the scheduled date of the meeting.

Dated: January 3, 2012.
David B. Snyder,
Attorney-Advisor, Alternate Certifying Officer.

[FR Doc. 2012-42 Filed 1-3-12; 4:15 pm]

BILLING CODE 6335-01-P